ENVIRONMENTAL PROTECTION AGENCY

[FRL-8931-4]

EPA Science Advisory Board Staff Office; Notification of Two Public Teleconferences of the Chartered Science Advisory Board

AGENCY: Environmental Protection Agency (EPA).

ACTION: Notice.

SUMMARY: The EPA Science Advisory Board (SAB) Staff Office announces two public teleconferences of the chartered SAB to conduct quality reviews of two draft SAB reports.

DATES: The teleconference dates will be Thursday, August 6, 2009 from 2 to 3:30 p.m. (Eastern Standard Time), and Friday, August 28, 2009, from 2 p.m. to 3:30 p.m. (Eastern Standard Time).

ADDRESSES: The meetings will be conducted by telephone only.

FOR FURTHER INFORMATION CONTACT: Any member of the public wishing to obtain general information concerning these public teleconferences should contact Mr. Thomas Miller, Designated Federal Officer (DFO), EPA Science Advisory Board (1400F), 1200 Pennsylvania Avenue, NW., Washington, DC 20460; via telephone/voice mail (202) 343-9982; fax (202) 233-0643; or e-mail at miller.tom@epa.gov. General information concerning the EPA Science Advisory Board can be found on the SAB Web site at http://www.epa.gov/sab.

SUPPLEMENTARY INFORMATION: Pursuant to the Federal Advisory Committee Act, 5 U.S.C., App. 2 (FACA), notice is hereby given that the EPA Science Advisory Board (SAB) will hold public teleconferences to conduct two quality reviews of draft SAB committee reports. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background

(a) SAB Quality Review of the Draft SAB Report on EPA's Economic Analysis Guidelines Update. The Chartered SAB will conduct a quality review of the SAB Environmental Economics Advisory Committee (EEAC) draft report on EPA's Economic Analysis Guidelines Update from 2 p.m to 3:30 p.m. on Thursday, August 6, 2009. EPA's National Center for Environmental Economics (NCEE) has requested SAB review of EPA's revised Guidelines for Preparing Economic Analyses. EPA last issued Guidelines for Preparing Economic Analyses in September 2000 to represent Agency policy on the preparation of economic analysis required by legislation and administrative orders. EPA received advice from the SAB in developing those Guidelines. Since 2000, there has been considerable new economic research and EPA has received new guidance from the Office of Management and Budget pertaining to the Agency's conduct of regulatory analysis. In response, NCEE has revised and updated the Guidelines and has requested SAB review. More information on this topic can be found on the SAB Web site at http://yosemite.epa.gov/sab/sabproduct.nsf/fedrgstr_activites/Guidelines%20Review?OpenDocument.

(b) SAB Quality Review of the Draft SAB Panel Report on the EPA Expert Elicitation White Paper. The Chartered SAB will conduct a quality review of the draft report from its Expert Elicitation Advisory Panel from 2 p.m. to 3:30 p.m. on Friday, August 28, 2009. EPA's Office of the Science Advisor (OSA) has requested SAB review of an “Expert Elicitation (EE) Task Force White Paper.” The White Paper discusses the potential utility of using expert elicitation to support EPA regulatory and non-regulatory analyses and decision-making, provides recommendations for expert elicitation “good practices,” and describes steps for a broader application across EPA. OSA has asked the SAB to provide advice regarding the potential usefulness of expert elicitation, how to strengthen the scientific basis for its use, and the implications for possible implementation at EPA. More information on this topic can be found on the SAB Web site at http://yosemite.epa.gov/sab/sabproduct.nsf/fedrgstr_activites/Expert%20Elicitation%20White%20Paper?OpenDocument.

Availability of Meeting Materials: The agenda and other materials in support of these teleconferences will be placed on the SAB Web site at http://www.epa.gov/sab in advance of each meeting.

Procedures for Providing Public Input: Interested members of the public may submit relevant written or oral information for the SAB to consider during these teleconferences. Oral Statements: In general, individuals or groups requesting time to make an oral presentation at a public SAB teleconference will be limited to three minutes, with no more than one-half hour for all speakers. To be placed on the public speakers list for the August 6, 2009 teleconference interested individuals should contact Mr. Thomas Miller, DFO, in writing (preferably by e-mail), by July 31 at the contact information provided above. Those interested in being placed on the public speakers list for the August 28, 2009 teleconference should contact Mr. Miller in the manner noted above by August 22, 2009. Written Statements: Written statements relevant to the August 6, 2009 teleconference should be received in the SAB Staff Office by July 31, 2009 so that the information may be made available to the SAB for their consideration prior to the teleconferences. Written statements relevant to the August 28, 2009 teleconference should be received in the SAB Staff Office by August 20, 2009. Written statements should be supplied to the DFO via e-mail to miller.tom@epa.gov (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Mr. Thomas Miller at (202) 343-9982, or miller.tom@epa.gov. To request accommodation of a disability, please contact Mr. Miller, preferably at least 10 days prior to the meeting, to give EPA as much time as possible to process your request.

Dated: July 9, 2009.
Vanessa T. Vu,
Director, EPA Science Advisory Board Staff Office.

[FR Doc. E9-16842 Filed 7-14-09; 8:45 am]

BILLING CODE 6560-50-P